COMMISSION ON CIVIL RIGHTS

Sunshine Act Notice

AGENCY: United States Commission on Civil Rights.

ACTION: Notice of meeting.

DATE AND TIME: Friday, September 10, 2010; 11:30 a.m. EDT.

PLACE: Via Teleconference, Public Dial In: 1-800-597-7623, Conference ID # 97796915.

Meeting Agenda

This meeting is open to the public, except where noted otherwise.

I. Approval of Agenda

II. Program Planning

• Consideration of Findings and Recommendations for Briefing Report on Health Care Disparities.

• New Black Panther Party Enforcement Project—Some of the discussion of this agenda item may be held in closed session.

• Sex Discrimination in Liberal Arts College Admissions Project—Some of the discussion of this agenda item may be held in closed session.

• Timeline for Briefing Report on English-Only in the Workplace.

III. State Advisory Committee Issues

• Arkansas SAC.

• Wyoming SAC.

IV. Approval of August 13 Meeting Minutes

V. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: August 31, 2010.
David Blackwood,
General Counsel.

[FR Doc. 2010-22112 Filed 8-31-10; 4:15 pm]

BILLING CODE 6335-01-P